DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains in the possession of the Denver Museum of Nature & Science, Denver, CO. The human remains were removed from Pettis County, MO.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Denver Museum of Nature & Science professional staff in consultation with representatives of the Osage Nation, Oklahoma.

In 1933, human remains representing a minimum of two individuals were removed from a mound burial context four miles northwest of Sedalia, Pettis County, MO, by G.D. Householder. Householder donated the individuals to the museum at some point thereafter. In 1994, the human remains were found in the museum's collections during an inventory, and then formally accessioned (DMNS catalogue numbers A1991.1 and A1991.2). The human remains were originally determined to be culturally unidentifiable. No known individuals were identified. No associated funerary objects are present.

Based on physical analysis, the human remains are determined to be Native American. Archeological evidence suggests that Pettis County mound sites generally date to the Mississippian nucleation horizon (A.D. 1350-1650). Oral tradition and historical documentation-supported by geographical, linguistic, folkloric, archeological evidence, and expert opinion-indicate that Pettis County has long been a part of the Osage traditional ancestral homelands and hunting territory. After consultation with the Osage Nation, Oklahoma, the museum reasonably believes that there is a shared group identity between the Osage people and the people of these ancient mounds.

Officials of the Denver Museum of Nature & Science have determined that, pursuant to 25 U.S.C. 2001 (9)-(10), the human remains described above represent the physical remains of two individuals of Native American ancestry. Officials of the Denver Museum of Nature & Science also have determined that, pursuant to 25 U.S.C. 3001 (2), there is a relationship of shared group identity that can be reasonably traced between the Native American human remains and the Osage Nation, Oklahoma.

Representatives of any other Indian tribe that believes itself to be culturally affiliated with the human remains should contact Dr. Chip Colwell-Chanthaphonh, Denver Museum of Nature & Science, 2001 Colorado Blvd., Denver, CO 80205, telephone (303) 370-6378, before June 3, 2010. Repatriation of the human remains to the Osage Nation, Oklahoma may proceed after that date if no additional claimants come forward.

The Denver Museum of Nature & Science is responsible for notifying the Osage Nation, Oklahoma that this notice has been published.

Dated: April 14, 2010.
David Tarler,
Acting Manager, National NAGPRA Program.

[FR Doc. 2010-10367 Filed 5-3-10; 8:45 am]

BILLING CODE 4312-50-S